NATIONAL SCIENCE FOUNDATION

Sunshine Act Meeting

Agency Holding Meeting: National Science Foundation, National Science Board and its Subdivisions.

DATE AND TIME: December 15-16, 2004.

December 15, 2004: 8 a.m.-5 p.m.

Concurrent Sessions:

8 a.m.-8:45 a.m. (Open).

8:45 a.m.-9:15 a.m. (Open).

9:30 a.m.-12 noon (Open).

12 noon-12:30 p.m. (Closed).

1:30 p.m.-2 p.m. (Closed).

2 p.m.-4:30 p.m. (Open).

4:30 p.m.-4:45 p.m. (Open).

4:45 p.m.-5 p.m. (Closed).

December 16, 2004: 8 a.m.-3 p.m.

Concurrent Sessions:

8 a.m.-9 a.m. (Open).

9 a.m.-10 a.m. (Closed).

10 a.m.-10:45 a.m. (Open).

10:45 a.m.-11:30 a.m. (Closed).

11:30 a.m.-11:45 a.m. (Closed).

11:45 a.m.-12 noon (Closed).

1 p.m.-3 p.m. (Open).

PLACE: The National Science Foundation, 4201 Wilson Boulevard, Arlington, VA 22230, www.nsf.gov/nsb.

CONTACT FOR INFORMATION: NSF Information Center (703) 292-5111.

STATUS: Part of this meeting will be closed to the public. Part of this meeting will be open to the public.

MATTERS TO BE CONSIDERED:

Wednesday, December 15, 2004

Open

Subcommittee on S&E Indicators (8 a.m.-8:45 a.m.) Room 1295

• Approval of minutes

• Discussion of NSB review process for Indicator Chapters and designation of chapter reviewers

• Suggestions for external reviewers

• Discussion of topics for Board Companion Piece

• Information item: Subcommittee approval of revised schedule

ad hoc Task Group on High Risk Research (8:45 a.m.-9:15 a.m.) Room 1295

• Summary of Discussion for October 2004

• Review of Charter for Task Force on Transformative Research

Committee on Audit & Oversight (9:30 a.m.-12 noon) Room 1235

• Approval of minutes

• Development of Board position on NAPA study recommendations

• 2004 Financial Statement Audit

• Chief Financial Officer's update

• Chief Information Officer's Update

• Overview of Investigative Process

• OIG Semi-Annual Report discussion

• Audit of Project Reporting on NSF Awards

Committee on Education and Human Resources (2 p.m.-4:30 p.m.) Room 1235

• Approval of minutes

• Reports and discussion items

• Presentation: Human Capital in a Global Knowledge Society

• Discussion of Industry Panel

Executive Committee (4:30 p.m.-4:45 p.m.) Room 1295

• Approval of minutes

• Updates or new business from Committee Members

• Update on 2005 NSB Retreat

Closed

Committee on Audit & Oversight (12 noon-12:30 p.m. Room 1235

• Pending Investigations

ad hoc Committee on Nominations—Class of 2006-2012 (1:30 p.m.-2 p.m.) Room 1295

• Review of candidates

• Final slate of candidates for Board approval

Executive Committee (4:45 p.m.-5 p.m.) Room 1295

• Director's Items

Thursday, December 16, 2004

Open

Committee on Programs and Plans (8 a.m.-9 a.m.) Room 1235

• Approval of Minutes

• Working Group reports

○ Task Group on Long-Lived Data Collections

○ High Risk Task Group

• Report on Major Research Facilities

Committee on Strategy and Budget (10 a.m.-10:45 a.m.) Room 1235

• Approval of minutes

• Status of FY 2005 budget request to Congress

• Discussion of budget impacts on NSB recommendations for future funding

Plenary Session of the Board (1 p.m.-3 p.m.) Room 1235

• Swear in new Board Members

• Approval of minutes

• Resolution to close portions of the February 2005 meeting

• Chairman's Report

• Director's Report

○ Congressional Update

• Committee Reports

Closed

Committee on Programs and Plans (9 a.m.-10 a.m.) Room 1235

• Action items

Committee on Strategy & Budget (10:45 a.m.-11:30 a.m.) Room 1235

• Discussion of FY 2006 NSF budget request to OMB

Executive Closed Plenary Session of the Board (11:30 a.m.-11:45 a.m.) Room 1235

• Approval of Executive Closed minutes

• Report from Nominations Committee

Closed Plenary Session ot the Board (11:45 a.m.-12 noon) Room 1235

• Approval of Closed minutes

• Awards and Agreements Resolutions

• Closed Committee reports

Michael P. Crosby,
Executive Officer, NSB.

[FR Doc. 04-27106 Filed 12-7-04; 8:44 am]

BILLING CODE 7555-01-P